DEPARTMENT OF HOMELAND SECURITY

Federal Emergency Management Agency

[Docket ID FEMA-2016-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of April 19, 2017 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: December 21, 2016.
Roy E. Wright,
Deputy Associate Administrator for Insurance and Mitigation, Department of Homeland Security, Federal Emergency Management Agency.

I. Watershed-based studies:

Community | Community map repository address
Middle Chattahoochee-Lake Harding Watershed
Carroll County, Georgia and Incorporated Areas
Docket No.: FEMA-B-1551
City of Whitesburg | City Hall, 60 Booster Field Drive, Whitesburg, GA 30185.
Unincorporated Areas of Carroll County | Carroll County Administration Building, Community Development Office, 423 College Street, Carrollton, GA 30117.
Columbus Consolidated Government, Georgia
Docket No.: FEMA-B-1551
Columbus Consolidated Government | Department of Engineering, Storm Water Division, 420 10th Street, 2nd Floor, Columbus, GA 31901.
Harris County, Georgia and Incorporated Areas
Docket No.: FEMA-B-1551
Unincorporated Areas of Harris County | Harris County Commissioners' Office, 104 North College Street, Hamilton, GA 31811.
Heard County, Georgia and Incorporated Areas
Docket No.: FEMA-B-1551
City of Franklin | City Hall, 150 Davis Street, Franklin, GA 30217.
Unincorporated Areas of Heard County | Heard County Building and Zoning Department, 215 East Court Square, Room 19, Franklin, GA 30217.
Troup County, Georgia and Incorporated Areas
Docket No.: FEMA-B-1551
City of LaGrange | City Hall, 200 Ridley Avenue, LaGrange, GA 30240.
City of West Point | City Hall, 730 1st Avenue, West Point, GA 31833.
Unincorporated Areas of Troup County | Troup County Government Center, 100 Ridley Avenue, LaGrange, GA 30240.
Lower Missouri-Moreau Watershed
Boone County, Missouri and Incorporated Areas
Docket No.: FEMA-B-1604
City of Columbia | City Hall, 701 East Broadway, Columbia, MO 65205.
City of Rocheport | City Hall, 703 1st Street, Rocheport, MO 65279.
Town of McBaine | Boone County Government Center, Assessor's Office, 801 East Walnut Street, 1st Floor, Columbia, MO 65201.
Unincorporated Areas of Boone County | Boone County Government Center, Assessor's Office, 801 East Walnut Street, 1st Floor, Columbia, MO 65201.
Village of Hartsburg | Boone County Government Center, Assessor's Office, 801 East Walnut Street, 1st Floor, Columbia, MO 65201.
Village of Huntsdale | Boone County Government Center, Assessor's Office, 801 East Walnut Street, 1st Floor, Columbia, MO 65201.

II. Non-watershed-based studies:

Community | Community map repository address
Riverside County, California and Incorporated Areas
Docket No.: FEMA-B-1532
City of La Quinta | City Hall, Community Development Department, 78-495 Calle Tampico, La Quinta, CA 92253.
City of San Jacinto | Tri-Lake Consultants, 166 East Main Street, Suite 2, San Jacinto, CA 92583.
Unincorporated Areas of Riverside County | Riverside County Flood Control and Water Conservation District, 1995 Market Street, Riverside, CA 92501.
Marion County, Florida and Incorporated Areas
Docket No.: FEMA-B-1523
City of Ocala | Department of Public Works, 1805 Northeast 30th Avenue, Ocala, FL 34470.
Unincorporated Areas of Marion County | Marion County Growth Services, 2710 East Silver Springs Boulevard, Ocala, FL 34470.
Page County, Iowa and Incorporated Areas
Docket No.: FEMA-B-1548
City of Blanchard | City Hall, 104 Main Street, Blanchard, IA 51630.
City of Braddyville | City Hall, 208 East Main Street, Braddyville, IA 51631.
City of Clarinda | City Hall, 200 South 15th Street, Clarinda, IA 51632.
City of Coin | City Hall, 506 Depot Street, Coin, IA 51636.
City of Essex | City Hall, 412 Iowa Avenue, Essex, IA 51638.
City of Hepburn | Hepburn City Office, 501 Railroad Street, Clarinda, IA 51632.
City of Northboro | Clarinda City Building, 200 South 15th Street, Clarinda, IA 51632.
City of Shambaugh | City Hall, 307 Main Street, Shambaugh, IA 51651.
City of Shenandoah | City Hall, 500 West Clarinda Avenue, Shenandoah, IA 51601.
City of Yorktown | Clarinda City Building, 200 South 15th Street, Clarinda, IA 51632.
Unincorporated Areas of Page County | Clarinda City Building, 200 South 15th Street, Clarinda, IA 51632.
St. Mary Parish, Louisiana and Incorporated Areas
Docket No.: FEMA-B-1543
Chitimacha Tribe of Louisiana | Chitimacha Tribe of Louisiana, St. Mary Parish Courthouse, Planning and Zoning Office, 500 Main Street, 5th Floor, Franklin, LA 70538.
City of Franklin | City Hall, 300 Iberia Street, Franklin, LA 70538.
City of Morgan City | Planning and Zoning Department, 509 2nd Street, Morgan City, LA 70380.
City of Patterson | City Hall, 1314 Main Street, Patterson, LA 70392.
Town of Baldwin | Town Hall, 800 Main Street, Baldwin, LA 70514.
Town of Berwick | Town Hall, 3225 3rd Street, Berwick, LA 70342.
Unincorporated Areas of St. Mary Parish | St. Mary Parish Courthouse, Planning and Zoning Office, 500 Main Street, 5th Floor, Franklin, LA 70538.
Olmsted County, Minnesota and Incorporated Areas
Docket Nos.: FEMA-B-1329 and FEMA-B-1557
City of Chatfield | Municipal Offices, 21 Southeast 2nd Street, Chatfield, MN 55923.
City of Dover | City Hall, 218 North Chatfield Street, Dover, MN 55929.
City of Eyota | City Hall, 38 South Front Street Southwest, Eyota, MN 55934.
City of Pine Island | City Hall, 250 South Main Street, Pine Island, MN 55963.
City of Rochester | City Hall, 201 4th Street Southeast, Rochester, MN 55904.
City of Stewartville | City Hall, 105 East 1st Street, Stewartville, MN 55976.
Unincorporated Areas of Olmsted County | Olmsted County Government Center, 151 4th Street Southeast, Rochester, MN 55904.
Roseau County, Minnesota and Incorporated Areas
Docket Nos.: FEMA-B-1310 and FEMA-B-1548
City of Badger | City Hall, 111 North Main Street, Badger, MN 56714.
City of Greenbush | City Hall, 244 Main Street North, Greenbush, MN 56726.
City of Roseau | City Center, 121 Center Street East, Suite 202, Roseau, MN 56751.
City of Warroad | City Office, 121 Main Avenue Northeast, Warroad, MN 56763.
Unincorporated Areas of Roseau County | Roseau County Courthouse, 606 5th Avenue Southwest, Room 130, Roseau, MN 56751.

[FR Doc. 2017-01372 Filed 1-19-17; 8:45 am]

BILLING CODE 9110-12-P